DEPARTMENT OF JUSTICE

Bureau of Alcohol, Tobacco, Firearms and Explosives

[OMB Number 1140-0032]

Agency Information Collection Activities; Proposed eCollection eComments Requested; Extension Without Change of a Currently Approved Collection Records of Acquisition and Disposition, Collectors of Firearms

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995.

DATES: Comments are encouraged and will be accepted for 60 days until May 11, 2020.

FOR FURTHER INFORMATION CONTACT: If you have additional comments, regarding the estimated public burden or associated response time, suggestions, or need additional information, please contact: Andrew Perdas, Firearms Industry Programs Branch (FIPB) either by mail at Bureau of Alcohol, Tobacco, Firearms and Explosives, 99 New York Ave. NE, Washington, DC 20226, by email at fipb-informationcollection@atf.gov, or by telephone at 202-648-0890.

SUPPLEMENTARY INFORMATION: Written comments and suggestions from the public and affected agencies concerning the proposed collection of information are encouraged. Your comments should address one or more of the following four points:

— Evaluate whether the proposed collection of information is necessary for the proper performance of the functions of the agency, including whether the information will have practical utility;

— Evaluate the accuracy of the agency's estimate of the burden of the proposed collection of information, including the validity of the methodology and assumptions used;

— Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Extension without change of a currently approved collection.

2. The Title of the Form/Collection: Records of Acquisition and Disposition, Collectors of Firearms.

3. The agency form number, if any, and the applicable component of the Department sponsoring the collection:

Form number (if applicable): None.

Component: Bureau of Alcohol, Tobacco, Firearms and Explosives, U.S. Department of Justice.

4. Affected public who will be asked or required to respond, as well as a brief abstract:

Primary: Individuals or households.

Other (if applicable): Business or other for-profit.

Abstract: The recordkeeping requirement for this collection is primarily to facilitate ATF's authority to inquire into the disposition of any firearm during the course of a criminal investigation.

5. An estimate of the total number of respondents and the amount of time estimated for an average respondent to respond: An estimated 51,976 respondents will responds to this information collection annually, and it will take each respondent approximately 3.05 hours to complete their responses.

6. An estimate of the total public burden (in hours) associated with the collection: The estimated annual total public burden hours associated with this collection is 158,527, which is equal to 155,928 hours (total time to prepare all inspection reports) + 2,599 hours (total time to create/maintain all record).

7. An Explanation of the Change in Estimates: The adjustments associated with this IC include a decrease in number of respondents (collector licensees) and responses by 4,952, since the last renewal in 2017. Consequently, the total annual burden hours for this IC has also reduced by 12,257.

If additional information is required contact: Melody Braswell, Department Clearance Officer, United States Department of Justice, Justice Management Division, Policy and Planning Staff, Two Constitution Square, 145 N Street NE, 3E.405A, Washington, DC 20530.

Dated: March 5, 2020.
Melody Braswell,
Department Clearance Officer for PRA, U.S. Department of Justice.

[FR Doc. 2020-04888 Filed 3-9-20; 8:45 am]

BILLING CODE 4410-18-P